DEPARTMENT OF HEALTH AND HUMAN SERVICES

President's Advisory Council for Faith-based and Neighborhood Partnerships

In accordance with section 10(a)(2) of the Federal Advisory Committee act (Pub. L. 92-463), the President's Advisory Council for Faith-based and Neighborhood Partnerships announces the following meeting:

Name: Meeting of President's Advisory Council for Faith-based and Neighborhood Partnerships

Dates: The meeting will be held on July 8-9th, 2009. For more information on meeting times please contact Mara Vanderslice at mara.vanderslice@hhs.gov.

Place: The meeting will take place at the White House.

Status: Portions of the meeting will be open to the public, limited only by space available.

Purpose: The Council brings together leaders and experts in fields related to the work of faith-based and neighborhood organizations in order to: Identify best practices and successful modes of delivering social services; evaluate the need for improvements in the implementation and coordination of public policies relating to faith-based and other neighborhood organizations and make recommendations for changes in policies, programs and practices.

Summary: The President's Advisory Council for Faith-based and Neighborhood Partnerships will hold a Council meeting. Topics to be discussed include updates from Council subcommittees on Reform of the Office, Economic Recovery, Fatherhood and Healthy Families, Inter-religious Dialogue and Cooperation, Environment and Climate Change and Global Poverty and Development.

For Further Information Contact: Mara Vanderslice, 202-205-2419, mara.vanderslice@hhs.gov.

Dated: June 22, 2009.
Mara Vanderslice,
Special Assistant.

[FR Doc. E9-15185 Filed 6-25-09; 8:45 am]

BILLING CODE 4154-07-P